DEPARTMENT OF JUSTICE

Notice of Lodging of a Consent Decree Pursuant to the Clean Water Act

Notice is hereby given that a proposed Consent Decree in United States of America, State of Maryland, Anacostia Watershed Society, Audubon Naturalist Society of the Central Atlantic States, Inc., Friends of Sligo Creek and Natural Resources Defense Council v. Washington Suburban Sanitation Commission, was lodged on July 26, 2005, with the United States District Court for the District of Maryland, Northern Division.

In the United States' complaint filed in this matter, the United States alleges violations of Sections 301 and 504 of the Clean Water Act, 33 U.S.C. 1311, 1364, and in its complaint in intervention, Maryland alleges violations of Sections 9-322 and 9-323 of the Maryland Environment Article, and other State law, arising from unpermitted discharges of wastewater from WSSC's sanitary sewer collection system to various waters of the United States and the State. Four citizens groups—the Anacostia Watershed Society, the Audubon Naturalist Society of the Central Atlantic States, the Friends of Sligo Creek and the Natural Resources Defense Council also intervened as co-plaintiff, filing a complaint in intervention under the Clean Water Act's citizens suit provision. The proposed Consent Decree would resolve all of the claims alleged in the United States', Maryland's and the Citizens Groups' complaints, and would result in the performance of injunctive measures, the payment of a civil penalty of $1,100,000 (shared equally by the United States and Maryland), and the performance of three Supplemental Environmental Projects (“SEPs”) valued at no less than $4,400,000. WSSC has estimated that the injunctive measures, which include comprehensive inspection, rehabilitation, and repair requirements for sewer lines, pump stations, and other system components, and comprehensive changes in the operation and maintenance of its collection system will add an additional $200,000,000 to the funds already budgeted by WSSC for collection system maintenance and repairs, over the 14-year schedule set forth in the consent decree.

The Department of Justice will receive comments relating to the proposed Consent Decree for a period of thirty (30) days from the date of this publication. Comments should be addressed to the Acting Assistant Attorney General, Environment and Natural Resources Division, P.O. Box 7611, U.S. Department of Justice, Washington, DC 20044 and should refer to United States et al. v. Washington Suburban Sanitary Commission, DJ No. 90-5-1-1-07360.

The proposed Consent Decree may be examined at the office of the United States Attorney for the District of Maryland, 36 S. Charles Street, 4th Floor, Baltimore, MD 21201, and at the Region 3 Office of the Environmental Protection Agency, 1650 Arch Street, Philadelphia, PA 19103. During the public comment period, the decree may also be examined on the following Department of Justice Web site, http://www.usdoj.gov/enrd/open.html. A copy of the decree may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $38.25 (25 cents per page reproduction cost) payable to the U.S. Treasury. The check should refer to United States et al. v. Washington Suburban Sanitary Commission, DJ No. 90-5-1-1-07360.

Robert D. Brook,
Assistant Section Chief, Environmental Enforcement Section, Environment and Natural Resources Division.

[FR Doc. 05-15868 Filed 8-10-05; 8:45 am]

BILLING CODE 4410-15-M